DEPARTMENT OF THE INTERIOR

Bureau of Land Management

[LLNVE00000 L51100000.GN0000 LVEMF1000580 241A; 10-08807; MO#4500012658; TAS: 14X1109]

Notice of Intent To Prepare an Environmental Impact Statement for the Proposed Arturo Mine Project, Elko County, NV

AGENCY: Bureau of Land Management, Interior.

ACTION: Notice of intent.

SUMMARY: In compliance with the National Environmental Policy Act of 1969, as amended, (NEPA) and the Federal Land Policy and Management Act of 1976, as amended, the Bureau of Land Management (BLM) Tuscarora Field Office, Elko, Nevada intends to prepare an Environmental Impact Statement (EIS) for the proposed Arturo Mine Project (Project) and by this notice is announcing the beginning of the scoping process to solicit public comments and identify issues.

DATES: This notice initiates the public scoping process for the EIS. Comments on issues may be submitted in writing until July 21, 2010. The date(s) and location(s) of any scoping meetings will be announced at least 15 days in advance through local media, newspapers and the following BLM Web site: http://www.blm.gov/nv/st/en/fo/elko_field_office.html. In order to be included in the Draft EIS, all comments must be received prior to the close of the scoping period or 15 days after the last public meeting, whichever is later. We will provide additional opportunities for public participation upon publication of the Draft EIS.

ADDRESSES: You may submit comments related to the Arturo Mine Project by any of the following methods:

• Web site: http://www.blm.gov/nv/st/en/fo/elko_field_office.html

• E-mail: arturo_eis@blm.gov

• Fax: (775) 753-0255.

• Mail: BLM Tuscarora Field Office, Attn. John Daniel, 3900 Idaho Street, Elko, Nevada 89801.

Documents pertinent to this proposal may be examined at the Tuscarora Field Office.

FOR FURTHER INFORMATION CONTACT: For further information and/or to have your name added to our mailing list, contact John Daniel, Project Lead, telephone: (775) 753-0277; address: 3900 Idaho St, Elko, Nevada 89801; E-mail: arturo_eis@blm.gov.

SUPPLEMENTARY INFORMATION: Barrick Gold Exploration, Inc. (Barrick) proposes to develop and expand the Dee Gold Mine, which is an existing open pit gold mine currently in a closure and reclamation status. Included in the proposal is the expansion of the existing open pit, construction of two new waste rock disposal storage facilities, construction of a new heap leach facility, construction of new support facilities (office, substation and associated power transmission lines, water wells, water distribution and sewer systems, landfill, mined material stockpile, communications site, stormwater control features, haul roads, and an access road), and continued surface exploration. Mill grade mined material will be processed at Barrick's Betze Mine Project located 8 miles south-southeast of the Project. Mined material will be transported using highway approved haul trucks. Dewatering is not proposed for this project. The Project would create approximately 2,347 acres of surface disturbance on public lands administered by the BLM. The project life is approximately 11 years. The Project is located approximately 45 miles northwest of Elko, Nevada in Elko County.

The purpose of the public scoping process is to determine relevant issues that will influence the scope of the environmental analysis, including alternatives, and guide the process for developing the EIS. The Draft EIS will address impacts to transportation, public safety, cultural resources, recreational opportunities, wildlife, threatened and endangered species, visual resources, air quality, wilderness characteristics, and other relevant issues. At present, the BLM has identified the following preliminary issues: grazing, wildlife, Native American concerns, cultural resources, and water resources.

The BLM will use and coordinate the NEPA comment process to satisfy the requirements for public involvement under Section 106 of the National Historic Preservation Act (16 U.S.C. 470(f)) as provided for in 36 CFR 800.2(d)(3). Native American Tribal consultations will be conducted in accordance with policy, and tribal concerns will be given due consideration, including impacts on Indian trust assets. Federal, state, and local agencies, along with other stakeholders that may be interested or affected by the BLM's decision on this project are invited to participate in the scoping process and, if eligible, may request or be requested by the BLM to participate as a cooperating agency. Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

Kenneth E. Miller,
Manager, Elko District Office.

[FR Doc. 2010-14931 Filed 6-18-10; 8:45 am]

BILLING CODE 4310-HC-P